DEPARTMENT OF COMMERCE

National Oceanic and Atmospheric Administration

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Research Steering Committee (Committee) in June, 2012, to consider actions affecting New England fisheries in the exclusive economic zone (EEZ). Recommendations from this group will be brought to the full Council for formal consideration and action, if appropriate.

DATES: The meeting will be held on Monday, June 25, 2012, at 9 a.m.

ADDRESSES: The meeting will be held at the Courtyard by Marriott, 225 McClellan Highway, East Boston, MA 02128, telephone: (617) 569-5250; fax: (617) 569-5159.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Research Steering Committee will meet to give an update on NEFSC Northeast Cooperative Research Program as well as an update on NERO Cooperative research activities. The Committee will also review cooperative research projects final reports: (1) REDNET—A Network to Redevelop a Sustainable Redfish (Sebastes fasciatus) Trawl Fishery in the Gulf of Maine; Kohl Kanwit, Mike Pol, Pingguo He; (2) Optimizing the Georges Bank Scallop Fishery by Maximizing Meat Yield and Minimizing Bycatch; 2011 Sea Scallop Research Set-Aside, Ronald Smolowitz, Kathryn Goetting, Farrell Davis, Dan Ward, Coonamessett Farm Foundation, Inc; (3) A Study on the Use of Tie-Downs and Their Impact on Atlantic Sturgeon, Marine Mammal Bycatch and Targeted Catch in the New Jersey Monkfish Fishery. Fox, D. A., L. M. Brown, K. W. Wark, and J. L. Armstrong. 2011, NOAA Bycatch Reduction Engineering Program; (4) Pilot Project to Assess Need and Initialize a Methodology to Groundtruth Existing Mulit-beam and Side-scan Sonar Seafloor Charts—NEC Report, Salvatore Genovese, Ph.D. Northeast University; (5) Ecological Role of Adult and Juvenile Anadromous Forage fish in Downeast Maine Estuaries: Sea-run Alewife and Groundfish Prey—NEC Report, Karen Wilson, University of Southern Maine; and (6) A Collaborative Effort to Examine New Strategies for Managing Closed Bottom Habitats for Sea Scallops—NEC Report, Dr. Brian F. Beal, University of Maine at Machias, Terry Stockwell and Chris Bartlett.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: June 5, 2012.
William D. Chappell,
Acting Director, Office of Sustainable Fisheries, National Marine Fisheries Service.

[FR Doc. 2012-13982 Filed 6-7-12; 8:45 am]

BILLING CODE 3510-22-P